DEPARTMENT OF AGRICULTURE

Rural Business-Cooperative Service

[Docket #: RBS-24-NONE-0013]

Notice of Revision of a Currently Approved Information Collection

AGENCY: Rural Business-Cooperative Service.

ACTION: Notice; request for comments.

SUMMARY: In accordance with the Paperwork Reduction Act of 1995, the Rural Business-Cooperative Service (RBCS) announces its intention to request a revision for a currently approved information collection package for the Annual Survey of Farmer Cooperatives, as authorized in the Cooperative Marketing Act of 1926.

DATES: Comments on this notice must be received by October 7, 2024 to be assured of consideration.

ADDRESSES: Comments may be submitted electronically by the Federal eRulemaking Portal, regulations.gov.

Other Information: Additional information about Rural Development (RD) and its programs is available on the internet at rd.usda.gov.

FOR FURTHER INFORMATION CONTACT: Adyam Negasi, RD Innovation Center—Regulations Management Division, U.S. Department of Agriculture, 1400 Independence Ave. SW, Washington, DC 20250; Tel: 202-221-9298; Email: Adyam.Negasi@usda.gov.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies an information collection that the Agency is submitting to OMB for revision.

Comments are invited on (a) whether the proposed collection of information is necessary for the proper performance of the functions of the agency, including whether the information will have practical utility; (b) the accuracy of the agency's estimate of burden including the validity of the methodology and assumption used; (c) ways to enhance the quality, utility, and clarity of the information to be collected; and (d) ways to minimize the burden of the collection of information on those who are to respond, including the use of appropriate automated, electronic, mechanical, or other technological collection techniques on other forms and information technology.

Comments may be sent through the Federal eRulemaking Portal, regulations.gov. In the “Search for dockets and documents on agency actions” box enter the Docket No. RBS-24-NONE-0013 and click the “Search” button. From the search results: click on or locate the document title and select the “Comment” button. To submit a comment: Insert comments under the “Comment” title. Select if you are an individual, organization, or anonymous. Select the box “I'm not a robot,” and then select “Submit Comment.” Information on using regulations.gov, including instructions for accessing documents, submitting comments, and viewing the docket after the close of the comment period, is available through the site's “FAQ” link.

All comments will be available for public inspection online at the Federal eRulemaking Portal (https://www.regulations.gov).

Title: Annual Survey of Farmer Cooperatives.

OMB Control Number: 0570-0007.

Type of Request: Revision of a currently approved information collection under 7 CFR part 1738.

Abstract: One of the objectives of RBCS is to promote the understanding, use, and development of the cooperative form of business as a viable option for enhancing the income of agricultural producers and other rural residents. RBCS' direct role is providing knowledge to improve the effectiveness and performance of farmer cooperative businesses through technical assistance, research, information, and education. The Annual Survey of Farmer Cooperatives collects basic statistics on cooperative business volume, net income, members, financial status, employees, and other selected information to support RBCS' objective and role. Cooperative statistics are published in an annual report and other formats for use by the U.S. Department of Agriculture, cooperative management and members, educators and researchers, other Federal agencies, cooperative trade associations, general agribusiness, cooperative development practitioners, students, teachers, consultants, and many others.

Estimate of Burden: Public reporting burden for this collection of information is estimated to average 0.78 hours per response.

Respondents: Cooperatives.

Estimated Number of Respondents: 1,035.

Estimated Number of Responses per Respondent: 1.

Estimated Number of Responses: 1,035.

Estimated Total Annual Burden on Respondents: 806 hours.

Copies of this information collection can be obtained from Adyam Negasi, RD Innovation Center—Regulations Management Division, at 202-221-9298 or Adyam.negasi@usda.gov.

All responses to this notice will be summarized and included in the request for OMB approval. All comments will also become a matter of public record.

Kathryn E. Dirksen Londrigan,
Administrator, Rural Business-Cooperative Service, USDA Rural Development.

[FR Doc. 2024-17405 Filed 8-6-24; 8:45 am]

BILLING CODE 3410-XY-P